DEPARTMENT OF THE INTERIOR

Bureau of Ocean Energy Management

[Docket No. BOEM-2018-0034]

Public Input Requested on Potential Impacts to Historic Priorities: Sand Resource Assessment and Borrow Area Identification, Atlantic and Gulf of Mexico Outer Continental Shelf

AGENCY: Bureau of Ocean Energy Management, Interior.

ACTION: Request for public input.

SUMMARY: The Bureau of Ocean Energy Management (BOEM) invites public input on the identification of historic properties or potential impacts to historic properties from a comprehensive research program of sand resource and borrow area identification on the Atlantic and Gulf of Mexico Outer Continental Shelf (OCS). Sand resources are identified using geophysical and geological (G&G) surveys, which constitute undertakings subject to Section 106 of the National Historic Preservation Act.

DATES: BOEM must receive your comments by August 13, 2018 for your comments to be considered. BOEM requests comments to be postmarked or delivered by this same date. BOEM will consider only those comments received that conform to this requirement.

ADDRESSES: Comments and other submissions of information may be submitted by either of the following two methods:

1. Federal eRulemaking Portal: http://www.regulations.gov. In the entry entitled, “Enter Keyword or ID,” enter BOEM-2018-0034, and then click “search.” Follow the instructions to submit public comments and view supporting and related materials available for this notice.

2. Written comments may be delivered by hand or by mail, enclosed in an envelope labeled, “Sand Resources Assessment Section 106,” to Deputy Preservation Officer, Office of Environmental Programs, Bureau of Ocean Energy Management, 45600 Woodland Road, Sterling, Virginia 20166.

FOR FURTHER INFORMATION CONTACT: Brandi Carrier, BOEM, Office of Environmental Programs, 45600 Woodland Road (VAM-OREP), Sterling, Virginia 20166, (703) 787-1623 or brandi.carrier@boem.gov.

SUPPLEMENTARY INFORMATION:

Authority: This request for public input concerns an action BOEM is taking pursuant to 43 U.S.C. 1346.

1 Background

BOEM's Marine Minerals Program partners with communities to address serious erosion along coastal beaches, dunes, barrier islands, and wetlands. Erosion affects natural resources, energy, defense, public infrastructure, and tourism. To help address this problem, BOEM provides sand, gravel, and/or shell resources from the Federal OCS for shore protection, beach nourishment, and wetlands restoration with vigorous safety and environmental oversight, as authorized by the Outer Continental Shelf Lands Act (OCSLA).

BOEM is proposing a comprehensive research program for sand resource and borrow area identification to properly identify and manage OCS sand resources, and to enable both long-term and emergency planning goals. The study will use state-of-the-art technology and methods to collect and analyze data, and will incorporate a rigorous mitigation strategy to minimize environmental effects. The field work will use G&G surveys to: (1) Identify potential OCS sand resources at a reconnaissance-scale; (2) delineate geographically focused areas as potential borrow areas at a design-level; (3) monitor specific borrow areas and investigate for the presence of objects of archaeological significance, munitions of explosive concern, and hard bottom or other sensitive benthic habitat in the vicinity of potential borrow areas; and (4) collect scientific data on changes in sand resources. The study could occur anywhere on the Atlantic or Gulf of Mexico OCS between the Submerged Lands Act Boundary to the 50 meter bathymetric contour; activities under cooperative agreements (authorized by 43 U.S.C. 1345(e)) with Atlantic and Gulf states may cross the state/Federal boundary. Additional information is available at https://www.boem.gov/Building-a-National-Offshore-Sand-Inventory/.

2 Description of the Proposed Undertaking

Section 106 of the National Historic Preservation Act (54 U.S.C. 306108), and the act's implementing regulations (36 CFR part 800), require Federal agencies to consider the effects of their undertakings on historic properties and afford the Advisory Council on Historic Preservation a reasonable opportunity to comment. As part of this review, BOEM will consult with state historic preservation officers, tribal officials, and others. BOEM is now reaching out to the general public for comment regarding the potential presence of historic properties or potential effects on historic properties from the surveys and other activities used in the study. This information will allow BOEM to consider and document historic preservation concerns early, and allow the agency to consider the views of the public in the decision making process.

This study will involve two different types of sand surveys, each with a different potential to affect historic properties:

(1) Geophysical surveys are conducted to obtain information about shallow sediment stratigraphy, shallow hazards (such as presence of munitions of explosive concern or buried cables), archaeological resources, and sensitive benthic habitats. Typical equipment used in these surveys includes sub-bottom profilers, swath bathymetric sonars, side-scan sonars, and magnetometers. Geophysical surveys do not have the potential to affect historic properties.

(2) Geological surveys involve seafloor-disturbing activities, such as sample collection through use of grab samples or a platform-mounted vibracore, which are conducted to evaluate the quality of mineral resources for their intended use as sand resources. Vibracores are shallow in nature, focusing on characterizing the sand layer, and penetrate to a depth of no more than 20 ft (6 m) or the extent of the sand layer. The seafloor-disturbing portions of the geological surveys may have the potential to affect historic properties on the OCS, so BOEM is requesting public input on the existence and location of historic properties on the OCS and on the potential effects geologic surveys could have on any such historic properties.

Once beach quality sand resource areas have been identified, these sand resources could be available to local, state, and Federal agencies for beach nourishment, and coastal restoration to provide protection of infrastructure, create coastal habitat, and reduce damage caused by storms, currents, and waves. Those potential future actions would undergo a separate Section 106 consultation process if they are determined to be undertakings under 36 CFR part 800, with additional opportunities for public comment.

3 Description of the Study Area

The potential Study Area lies within the Atlantic and Gulf of Mexico OCS, from the Submerged Lands Act boundary to 50 m (164 ft) deep. Sand survey activities will not occur across the entire Study Area simultaneously, but will be of limited spatial extent at any one time. The Study Area includes adjacent transit corridors used for mobilization, and demobilization, and access to support bases. Sensitive and protected areas, such as within Cape Cod Bay, Stellwagen Bank National Marine Sanctuary, and Florida Keys National Marine Sanctuary are specifically excluded.

Prior to commencing sand survey activities, BOEM will coordinate with coastal states, Federal stakeholders, and relevant regional planning bodies to determine areas with the greatest potential need for OCS sand resources and the greatest data gaps, in order to identify priority survey sites. A detailed survey and sampling plan will be developed prior to undertaking any sand survey activities; this plan will define the geographic scope and relative timing of the proposed activities.

Similar resource area identification and delineation activities could occur on state submerged lands, but these undertakings would be separately analyzed in project-specific environmental reviews, under the direction of the appropriate lead entity. BOEM may enter into cooperative agreements with Atlantic and Gulf states to assist in the inventory of offshore sand resources, which may cross the state/Federal boundaries. BOEM's authorization of an agreement to use sand resources in a given borrow area, including for beach nourishment and wetlands reconstruction, would be considered a separate action. Any such proposed undertakings, if received by BOEM, would be considered individually and would subject to a separate environmental review and Section 106 consultation process.

4 Requested Information From the Public

BOEM requests specific and detailed comments from the public and other interested or affected parties on the identification of historic properties or potential effects to historic properties from the proposed G&G survey activities. This information will inform BOEM's review of this and future undertakings under Section 106 of the NHPA.

5 Protection of Sensitive, Privileged, or Confidential Information

5.1 Freedom of Information Act

BOEM will protect sensitive, privileged, or confidential information that you submit when required by the Freedom of Information Act (FOIA).

5.2 Section 304 of the National Historic Preservation Act (54 U.S.C. 307103)

Exemption 3 of FOIA applies to information specifically exempted from disclosure by a statute other than FOIA, but only if the other statute's disclosure prohibition is absolute. Section 304 of the National Historic Preservation Act at 54 U.S.C. 307103 requires the head of a Federal agency, after consultation with the Secretary, to withhold from disclosure to the public information about the location, character, or ownership of a historic property if the Secretary and the agency determine that disclosure may—(1) cause a significant invasion of privacy; (2) risk harm to the historic property; or (3) impede the use of a traditional religious site by practitioners. If you wish BOEM to withhold such information from disclosure, clearly mark it and request that BOEM treat it as confidential. BOEM will not disclose such information if it qualifies for exemption from disclosure under FOIA. Please label privileged or confidential information “Contains Confidential Information.” In particular, tribal entities should designate information that falls under Section 304 of NHPA as confidential.

5.3 Personal Identifying Information

BOEM does not consider anonymous comments; please include your name and address as part of your submittal. You should be aware that your entire comment, including your name, address, and your personal identifying information, may be made publicly available at any time. In order for BOEM to withhold your personal identifying information from disclosure, you must identify any information contained in the submittal of your comments that, if released, would constitute a clearly unwarranted invasion of your personal privacy. You must also briefly describe any possible harmful consequence(s) of the disclosure of information, such as embarrassment, injury or other harm.

Dated: July 17, 2018.
Walter D. Cruickshank,
Acting Director, Bureau of Ocean Energy Management.

[FR Doc. 2018-15669 Filed 7-20-18; 8:45 am]

BILLING CODE 4310-MR-P